DEPARTMENT OF HEALTH AND HUMAN SERVICES

Administration for Children and Families

Proposed Information Collection Activity; Comment Request

Proposed Project:

Title: Supporting Healthy Marriage (SHM) Demonstration and Evaluation Project—Wave 2 Survey.

OMB No. 0970-0339.

The Administration for Children and Families (ACF), U.S. Department of Health and Human Services, is conducting a demonstration and evaluation called the Supporting Healthy Marriage (SHM) Project. SHM is a test of marriage education demonstration programs in eight sites that will enroll about 800 couples per site, with half assigned to participate in the SHM program, and the other half assigned to the control group.

SHM is designed to inform program operators and policymakers of the effectiveness of programs designed to help low-income married couples strengthen and maintain healthy marriages and improve outcomes for adults and children.

This notice of information collection is for a second adult survey instrument and new instruments to obtain information from children and youth about 30 months after study entry and for an extension of the period of approval for the first survey and observation instruments, which are used to obtain information from research participants about 12 months after study entry.

The proposed second wave of information collection will involve:

• An adult survey instrument to assess study participants' longer term marital status and stability, quality of relationships, and a range of other measures.

• A survey of focal children of study participants in both the program and control groups who are over 8 years of age (the youth survey).

• A direct child assessment of focal children of study participants in both the program and the control groups who are 8 years of age or younger.

Respondents: Low-income married couples and their children in the SHM evaluation research sample.

Annual Burden Estimates
Instrument | Annual number of respondents | Number of responses per respondent | Average burden hours per response | Estimated annual burden hours
12-month adult survey | 4,267 | 1 | 0.83 | 3,542
12-month adult observational study | 1,632 | 1 | 0.66 | 1,077
12-month child observational study | 816 | 1 | 0.33 | 269
2nd wave (30-month) adult survey | 4,267 | 1 | 0.83 | 3,542
Youth survey (30-month) | 633 | 1 | 0.50 | 317
Child observational study (30-month) | 1,329 | 1 | 0.50 | 665

Estimated Total Annual Burden Hours: 9,412.

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Planning, Research and Evaluation, 370 L'Enfant Promenade, SW., Washington, DC 20447, Attn: OPRE Reports Clearance Officer. E-mail address: opreinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Dated: March 11, 2009.
Brendan C. Kelly,
OPRE Reports Clearance Officer.

[FR Doc. E9-6039 Filed 3-20-09; 8:45 am]

BILLING CODE 4184-01-M